DEPARTMENT OF HEALTH AND HUMAN SERVICES

Request for Applications for the Prevention and Support Services for Women Incarcerated or Newly Released Living With or at Risk for HIV/AIDS/STDs

AGENCY: Office on Women's Health, Office of Public Health and Science, Office of the Secretary, DHHS.

ACTION: Notice.

Announcement Type: Competitive Cooperative Agreement FY 2006 Initial announcement.

OMB Catalog of Federal Domestic Assistance: The OMB Catalog of Federal Domestic Assistance number is 93.015.

DATES: Application availability: May 23, 2006.

Applications are due by 5 p.m. Eastern Time on June 22, 2006.

SUMMARY: This program is authorized by 42 U.S.C. 300u-2(a).

The Office on Women's Health (OWH) is the focal point for women's health within the Department of Health and Human Services (DHHS). Under the direction of the Deputy Assistant Secretary for Women's Health, OWH provides leadership to promote health equity for women and girls through gender-specific approaches. To that end, OWH has established activities to address critical women's health issues nationwide. These include: developing and implementing model public/private partnerships that address the health issues of incarcerated and newly released women, largely women of color, living with HIV/AIDS/STDs or at increased risk for sexually transmitted infections. These may include piloting a comprehensive system of health related support services, such as ensuring access to health care and most current therapies, pre-release discharge planning, case managing transition processes, and establishing linkages to various community based support and prevention services.

The OWH HIV/AIDS program began in 1999 with funding from the Minority AIDS Fund (formerly Minority AIDS Initiative) to address the gaps in services provided to women who are at risk or living with HIV. Since the inception of the HIV/AIDS programs, the program focus has expanded from two to seven. These programs include: (1) HIV Prevention for Women Living in the Rural South, (2) Prevention and Support for Incarcerated/ Newly Released Women, (3) Model Mentorship for Strengthening Organizational Capacity, (4) HIV Prevention for Young Women Attending Minority Institutions (e.g. Historically Black Colleges and Universities, Hispanic Serving Institutions, and Tribal Colleges and Universities), (5) HIV Prevention for Women Living in the U.S. Virgin Islands, (6) Prevention and Support for HIV Positive Women Living in Puerto Rico, and (7) Inter-generational Approaches to HIV/AIDS Prevention Education with Women across the Lifespan.

Funding will be directed at activities designed to improve the delivery of services to women disproportionately impacted by HIV/AIDS.

I. Funding Opportunity Description

The primary purpose of this OWH HIV/AIDS program is to increase health related support services available for HIV infected incarcerated and newly released women. The goals for the Incarcerated/Newly Released Program are to:

Develop and sustain comprehensive HIV/AIDS/STD prevention and support services to incarcerated and newly released women living with HIV/AIDS in collaboration with health entities, care providers, social services, correctional facilities, and criminal justice offices;

Establish community linkages and networks for ensuring quality continuum of care, transitional support, discharge planning and preparation, and HIV/STD prevention services for incarcerated and newly released women living with or at high risk for HIV/AIDS; and

Improve the physical and mental health circumstances as well as the quality of life of incarcerated and newly released women living with HIV/AIDS or at high risk for HIV infection.

The OWH hopes to fulfill this purpose by providing funding to targeted community-based organizations to enhance their prevention and support activities to incarcerated and newly released women living with or at high risk for HIV infection.

The proposed program must address HIV prevention and support services for incarcerated and newly released women through a gender-specific approach. Information and services provided must be culturally and linguistically appropriate for the individuals for whom the information and services are intended. Women's health issues are defined in the context of women's lives, including their multiple social roles and the importance of relationships with other people to their lives. This definition of women's health encompasses mental, dental, and physical health and spans the life course.

The objectives of the OWH program are to:

1. Increase the number of incarcerated women receiving pre-release discharge planning, particularly those who are living with HIV/AIDS or at high risk for HIV infection.

2. Increase the number of HIV infected incarcerated women who are connected to drug assistance programs, medical care, and case management services prior to release or at time of release.

3. Increase the number of community linkages and networks for ensuring continuum of care for incarcerated and newly released women living with or at high risk for HIV/AIDS in locations with high rates of HIV infections and incarcerated populations.

4. Increase the number of newly released women receiving support services and HIV care six months post release.

The grantee must: (1) Develop and implement a model program to provide comprehensive HIV/AIDS/STD prevention and support services to incarcerated and newly released women living with HIV/AIDS in order to establish a continuum of care (e.g., treatment, therapies, case management, reproductive health, HIV/STD testing, etc.) and secondary prevention activities to improve disease management and health outcomes; risk reduction counseling and prevention education components must be developed and integrated in both pre-lease and post-release program plans; (2) propose a pilot program to address gaps in services to incarcerated and newly released women living with HIV/AIDS that will be implemented locally in partnership with local entities after reviewing city/county/State data on incarcerated populations, exploring challenges and trends confronting incarcerated and newly released women living with HIV/AIDS, assessing existing local HIV/AIDS network of prevention and care service providers that target incarcerated and newly released women, and identifying available criminal justice programs that service women; (3) establish Memoranda of Understanding with local health care entities, social services, HIV/AIDS prevention/service providers, and criminal justice offices in support of program implementation, collaboration around services, and re-entry support of the women participants; (4) participate in the OWH Evaluation of Women and HIV/AIDS Programs; (5) visit area criminal justice offices/facilities and affiliated programs as well as conduct outreach to communities and women living with HIV/AIDS and are at risk of infection of HIV/AIDS/STDs to identify and enroll participation of target population and to establish program partnerships. In addition, the grantee shall submit reports outlining program activities (e.g., recruitment, participant retention), which reflect how its implementation process reflected an understanding of the realities of women's lives and addressed the issues of the participants to motivate continued participation. Finally, the grantee shall develop a plan to continue the program activities and community linkages beyond OWH funding and shall illustrate how program performance addressed community needs and the needs of incarcerated/newly released women.

The grantee is encouraged to attend at least one national or regional HIV/AIDS Conference (e.g., U.S. Conference on AIDS, the Centers for Disease Control and Prevention (CDC) National HIV Prevention Conference, etc.), and to seek updates in HIV prevention strategies, therapies and priority activities as advised by the CDC, Health Resources and Services Administration, and other public health experts.

II. Award Information

The OWH program will be supported through the cooperative agreement mechanism. Using this mechanism, the OWH anticipates making three awards in FY 2006. The anticipated start date for new awards is September 01, 2006, and the anticipated period of performance is September 01, 2006, through August 31, 2007. Approximately $300,000 is available to make awards of up to $100,000 total cost (direct and indirect) for a 12-month period. However, the actual number of awards made will depend upon the quality of the applications received and the amount of funds available for the program.

The program is a collaborative effort between the OWH and the Office of HIV/AIDS Policy, OPHS. These offices will provide the technical assistance and oversight necessary for the implementation, conduct, and assessment of program activities.

The applicant shall:

1. Develop and implement the model described in the application.

2. Assess local services and gaps.

3. Establish community partnerships through Memoranda of Understanding/Agreement.

4. Participate in the OWH Evaluation, submit requested program information as needed, and participate in a site visit conducted by Evaluation Contractor.

5. Perform outreach to criminal justice offices/facilities and to communities and women living with HIV/AIDS.

6. Participate in special meetings and projects/funding opportunities identified by the OWH.

7. Adhere to all program requirements specified in this announcement and the Notice of Grant Award.

8. Submit required progress, annual, and financial reports by the due dates stated in this announcement and the Notice of Grant Award.

9. Comply with the DHHS Protection of Human Subjects regulations (which require obtaining Institutional Review Board approval), set out at 45 CFR part 46, if applicable. General information about Human Subjects regulations can be obtained through the Office for Human Research Protections (OHRP) at http://www.hhs.gov/ohrp, ohrp@osophs.dhhs.gov, or toll free at (866) 447-4777.

The Federal Government will:

1. Conduct an orientation meeting for the grantees within the first month of funding.

2. Conduct at least one site visit which includes some observation of program progress.

3. Review all quarterly, annual, and final progress reports.

4. Review and concur with requested project modifications.

5. Review implementation plan for approval.

6. Participating in telephone conferences and other activities supporting the evaluation performance.

7. Conduct a national evaluation of program effectiveness, outcomes, and impact.

The DHHS is committed to achieving the health promotion and disease prevention diabetes, and HIV/AIDS and with the Healthy People 2010: Goal 2—eliminating health disparities due to age, gender, race/ethnicity, education, income, disability, or living in rural localities. Applicants are encouraged to indicate the Healthy People 2010 objective this activity will address. More information on the Healthy People 2010 objectives may be found on the Healthy People 2010 Web site: http://www.health.gov/healthypeople. Also, Steps to a HealthierUS is a bold new initiative from the Department that advances the goal of helping Americans live longer, better, and healthier lives.

To help implement the HealthierUS initiative, the Department launched the Steps to a HealthierUS program. It lays out DHHS priorities and programs for Steps to a HealthierUS, focusing attention on the importance of prevention and promising approaches for promoting healthy environments. More information on these initiatives can be found at http://www.healthierus.gov.

III. Eligibility Information

1. Eligible Applicants

Eligible Applicants must meet all of the following criteria:

1 . Current entities funded by the OWH to target incarcerated and newly released women living with HIV/AIDS or at high risk for HIV infection and who met performance requirements in the OWH 3-year evaluation of the Incarceration/Newly Released program;

2 . Organizations located in locations with high HIV prevalence among women;

3 . Locations near incarcerated populations of women; and

4. Organizations indicating history of serving African American women, Hispanic women, substance abusing women, formerly incarcerated women, and women living with HIV/AIDS or whose lifestyles place them at high risk for HIV/STD infection.

Current entities funded by the OWH to increase health related support services available for HIV infected incarcerated and newly released women whose funding ends in September 2006 are the only organizations qualified to receive funding through this program. Since the primary purpose of the funding is to retain entities for the ongoing 3-year evaluation of the Incarcerated and Newly Released programs, only those organizations that are funded, and are evaluation participants are suitable and eligible for funding.

2. Cost Share or Matching

Cost sharing, matching funds, and cost participation is not a requirement of this grant.

IV. Application and Submission Information

1. Address To Request Application Package

Application kits may be requested from, and submitted to the OPHS Office of Grants Management, 1101 Wootton Parkway, Suite 550, Rockville, MD 20852, 240-453-8822. Application kits are also available online at the electronic grants management Web site (e-Grants) at https://egrants.osophs.dhhs.gov/. Applicants may fax a written request to the OPHS Office of Grants Management to obtain a hard copy of the application kit at 240-453-8823.

2. Content and Format of Application and Submission

All completed applications must be submitted to the OPHS Office of Grants Management at the above mailing address. In preparing the application, it is important to follow ALL instructions provided in the application kit. Applications must be submitted on the forms supplied (OPHS-1, Revised 6/2001) and in the manner prescribed in the application kits provided by the OPHS. Applicants are required to submit an application signed by an individual authorized to act for the applicant agency or organization and to assume for the organization the obligations imposed by the terms and conditions of the grant award. The program narrative should not be longer than 25 double-spaced pages, not including appendices and required forms, using an easily readable, 12-point font. All pages, figures and tables should be numbered.

A Dun and Bradstreet Universal Numbering System (DUNS) number is required for all applications for Federal assistance. Organizations should verify that they have a DUNS number or take the steps necessary to obtain one. Instructions for obtaining a DUNS number are included in the application package, and may be downloaded from the Web site https://www.dnb.com/product/eupdate/requestOptions.html.

At a minimum, each application for a cooperative agreement grant funded under this OWH announcement must:

Present a plan to develop and implement a model program in partnership with an array of local service providers, including health care providers, support services, case management, etc.

Provide signed Memoranda of Agreement(s) (MOA) with prospective partners to build a consortium of providers for the targeted population based upon prevention, care and re-entry transitioning needs. Detail/specify the roles and resources/services that each partner organization brings to the program, the duration and terms of agreement as confirmed by a signed memorandum of agreement between the applicant organization and each partner. The partnership agreement(s) must name the individual who will work with the program, describe their function, and State their qualifications. The documents, specific to each organization (form letters are not acceptable), must be signed by individuals with the authority to represent and bind the organization (e.g., president, chief executive officer, executive director) and submitted as part of the grant application.

Be a sustainable organization with an established network of partners capable of providing coordinated and integrated women's health services in the targeted community. The partners and their roles and responsibilities to the program must be clearly identified in the application.

Demonstrate that any prevention intervention (including prevention for positives) contains the core elements of interventions with evidence of effectiveness. (See Compendium of HIV Prevention Interventions with Evidence of Effectiveness, from CDC's HIV/AIDS Prevention Research Synthesis Project, Nov. 1999; see CDC's HIV Prevention Strategic Plan Through 2005.

Provide a time line and plans for Program Implementation for the funding year, presented in correlation to goals, objectives, and expected outcomes or targets.

Demonstrate the ways in which the organization and the services that are coordinated through its partners are gender and age appropriate, women-focused, women-friendly, women-relevant as well as culturally and linguistically appropriate to the target population.

Describe in detail plans for the local evaluation of the program and when and how the evaluation will be used to enhance the program. The applicant must also indicate their willingness to participate in a national evaluation of the program to be conducted under the leadership of the OWH contractor.

Format and Limitations of Application: Applicants are required to submit an original ink-signed and dated application and 2 photocopies. All pages must be numbered clearly and sequentially beginning with the Project Summary. The application must be typed double-spaced on one side of plain 8½″ x 11″ white paper, using at least a 12-point font, and contain 1″ margins all around.

The Project Summary and Project Narrative must not exceed a total of 25 double-spaced pages, excluding the appendices. The original and each copy must be stapled; the application should be organized in accordance with the format presented in the RFA. An outline for the minimum information to be included in the Project Narrative section is presented below. The content requirements for the Project Narrative portion of the application are divided into five sections and described below within each Factor. Applicants must pay particular attention to structuring the narrative to respond clearly and fully to each review Factor and associated criteria. Applications not adhering to these guidelines may not be reviewed.

I. Background (Understanding of the Problem)

A. Organization's goals and purpose(s).

B. Local needs assessment and gaps in services for targeted population.

C. Strategy for linking public health, corrections, and community services.

D. Local program objectives:

1. Tied to program goal(s);

2. Measurable with time frame.

E. Organizational charts that include partners and a discussion of the proposed resource to be contributed by the partners, personnel and their expertise, and how their involvement will help achieve the program goals.

II. Implementation Plan (Approach)

A. Describe linkages with multiple systems which impact incarcerated and newly released women living with HIV infection transitioning back into society.

B. Describe pre-release and post-release activities relative to secondary prevention and risk reduction counseling.

C. Discuss gender specific program elements

D. Provide systems chart outlining the connection of program components.

E. Show time line of program activities and performance of targets/goals.

F. Partnerships and referral system/follow up.

III. Management Plan

A. Key project staff, their resumes, and a staffing chart for budgeted staff.

B. To-be-hired staff and their qualifications.

C. Staff responsibilities.

D. Management experience of the lead agency and partners as related to their role in the program.

E. Management oversight of staff roles and job performance.

F. Address maintenance of confidentiality, ethics in performance, and on-going staff training.

G. Explain decision making hierarchy.

IV. Local Evaluation Plan

A. Purpose.

B. Describe tools and procedures for measuring strengths and weaknesses.

C. Use of results to enhance programs.

D. Indicators that reflect goals/objectives are being met.

V. Organizational Agency Qualifications

A. Agency history of services for HIV infected individuals, HIV infected women, and women formerly incarcerated.

B. Agency relationships, past and current, with criminal justice systems and local service providers.

C. Community acceptance: staff recognition, media, requests for agency involvement.

Appendices

A. Memorandums of Agreement/Understanding/Partnership Letters

B. Required Forms (Assurance of Compliance Form, etc.)

C. Key Staff Resumes

D. Charts/Tables (partners, services, population demographics, program components, etc.)

E. Other attachments

Use of Funds: A majority of the funds from the award must be used to support staff and efforts aimed at implementing the program. The Program Coordinator, or the person responsible for the day-to-day management of the program, must devote at least a 75 percent level of effort to the program. Funds may also be used to transfer the lessons learned/successful strategies/gender specific approaches from the program (technical assistance) through activities such as showcasing the program at conferences, meetings and workshops; providing direct technical assistance to other communities; and providing technical assistance to allied health and health professionals, directly or through their professional organizations, interested in working with incarcerated and newly released women living with HIV/AIDS or who are at high risk for HIV/STD infection. These may include either process-based lessons (i.e., How to bring multiple sectors of community partners together) or outcomes-based lessons (i.e., How to increase the number of incarcerated and newly released women who remain in care and treatment over a period of time).

Funds may be used for personnel, consultants, supplies (including screening, education, and outreach supplies), and grant related travel. Funds may not be used for construction, building alterations, equipment, medical treatment, or renovations. All budget requests must be justified fully in terms of the proposed goals and objectives and include an itemized computational explanation/breakout of how costs were determined.

Meetings: The OWH will convene grantees once a year for orientation. The meeting will be held in the Washington metropolitan area or in one of the ten (10) DHHS regional office cities. The budget should include a request for funds to pay for the travel, lodging, and meals. The meeting is usually held within the first six weeks post award.

3. Submission Date and Time

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic grant application submissions must be submitted no later than 5 p.m. Eastern Time on the deadline date specified in the DATES section of the announcement using one of the electronic submission mechanisms specified below. All required hardcopy original signatures and mail-in items must be received by the OPHS Office of Grants Management no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the Grants.gov Web site Portal must contain all completed online forms required by the application kit, the Program Narrative, Budget Narrative and any appendices or exhibits. All required mail-in items must received by the due date requirements specified above. Mail-In items may only include publications, resumes, or organizational documentation.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the OPHS eGrants System

The OPHS electronic grants management system, eGrants, provides for applications to be submitted electronically. Information about this system is available on the OPHS eGrants Web site, https://egrants.osophs.dhhs.gov, or may be requested from the OPHS Office of Grants Management at (240) 453-8822.

When submitting applications via the OPHS eGrants system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency.

Electronic applications submitted via the OPHS eGrants system must contain all completed online forms required by the application kit, the Program Narrative, Budget Narrative and any appendices or exhibits. The applicant may identify specific mail-in items to be sent to the Office of Grants Management separate from the electronic submission; however these mail-in items must be entered on the eGrants Application Checklist at the time of electronic submission, and must be received by the due date requirements specified above. Mail-In items may only include publications, resumes, or organizational documentation.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

4. Intergovernmental Review

This program is subject to the Public Health Systems Reporting Requirements. Under these requirements, a community-based non-governmental applicant must prepare and submit a Public Health System Impact Statement (PHSIS). Applicants shall submit a copy of the application face page (SF-424) and a one page summary of the project, called the Public Health System Impact Statement. The PHSIS is intended to provide information to State and local health officials to keep them apprised on proposed health services grant applications submitted by community-based, non-governmental organizations within their jurisdictions.

Community-based, non-governmental applicants are required to submit, no later than the Federal due date for receipt of the application, the following information to the head of the appropriate State and local health agencies in the area(s) to be impacted: (a) a copy of the face page of the application (SF 424), (b) a summary of the project (PHSIS), not to exceed one page, which provides: (1) A description of the population to be served, (2) a summary of the services to be provided, and (3) a description of the coordination planned with the appropriate State or local health agencies. Copies of the letters forwarding the PHSIS to these authorities must be contained in the application materials submitted to the OWH.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: http://www.whitehouse.gov/omb/grants/spoc.html. The due date for State process recommendations is 60 days after the application deadline. The OWH does not guarantee that it will accommodate or explain its responses to State process recommendations received after that date. (See Intergovernmental Review of Federal Programs, Executive Order 12372, and 45 CFR part 100 for a description of the review process and requirements.)

5. Funding Restrictions

Funds may not be used for construction, building alterations, equipment purchase, medical treatment, renovations, or to purchase food. Pre-award costs are not an allowable cost for this award.

6. Other Submission Requirements

None.

V. Application Review Information

Criteria: The objective technical review of applications will consider the following factors:

Factor 1: Implementation /Approach 30%

This section must discuss:

1. Appropriateness of the existing community resources and linkages established to deliver coordinated, comprehensive women's services to meet the requirements of the program. Describe other community providers that will be affiliated with the program and their role in service delivery.

2. Pre-release and post release program phases; explain the integration of program components to include prevention and risk reduction interventions.

3. Appropriateness of proposed approach, linkages of multiple systems, and specific activities described to address program objectives.

4. Soundness of evaluation objectives for measuring program effectiveness, impact of continuity of care, and improvement in disease management by individual clients.

5. Willingness to participate in the national OWH evaluation.

6. Appropriate MOAs and/or Letters of Intent to support assertions made in this section.

Factor 2: Management Plan—20%

This section must discuss:

1. Applicant organization's capability to manage the project as determined by the qualifications of the proposed staff or requirements for to be hired staff;

2. Proposed staff level of effort; management experience of the lead agency;

3. The experience, resources, and role of each partner organization as it relates to the needs and programs/activities of the program;

4. Staff experience as it relates to meeting the needs of the community and populations served;

5. Detailed position descriptions, resumes of key staff, and a staffing chart should be included in the appendix.

Factor 3: Organizational Agency Qualifications—20%

This section should include demonstrated knowledge of local need and existing systems, agency relationships with corrections and incarcerated populations, and agency history of services to HIV infected individuals, HIV infected women, and women formerly incarcerated.

Factor 4: Background/Understanding of the Problem—15%

This section must discuss:

1. The current State of affairs locally for incarcerated and newly released women living with HIV/AIDS or at high risk for HIV/STD infection.

2. Relevance of organizational goals and purpose(s) to community and local needs.

3. Challenges to linking public health, corrections and community services to provide services to an underserved population disproportionately impacted by criminal justice problems and HIV infection.

4. Coordination of independent systems to meet the needs of the target population.

5. Prevention interventions for those living with HIV/AIDS and risk reduction counseling for positive persons and those at risk for HIV/AIDS/STDs.

Factor 5: Evaluation Plan—15%

Provide a clear Statement of program goal(s), feasibility and appropriateness of the local evaluation plan, analysis of results, and procedures to determine if the program goals are met. Provide a clear Statement of willingness to participate actively in the national OWH evaluation.

Review and Selection Process: Funding decisions will be made by the OWH, and will take into consideration the recommendations and ratings of the review panel, program needs, geographic location, Stated preferences, and the recommendations of DHHS Regional Women's Health Coordinators (RWHC).

VI. Award Administration Information

1. Award Notices

Successful applicants will receive a notification letter from the Deputy Assistant Secretary for Health (Women's Health) and a Notice of Grant Award (NGA), signed by the OPHS Grants Management Officer. The NGA shall be the only binding, authorizing document between the recipient and the OWH. Notification will be mailed to the Program Director identified in the application. Unsuccessful applicants will receive a notification letter with the results of the review of their application from the Deputy Assistant Secretary for Health (Women's Health).

2. Administrative and National Policy Requirements

The regulations set out at 45 CFR parts 74 and 92 are the Department of Health and Human Services (DHHS) rules and requirements that govern the administration of grants. Part 74 is applicable to all recipients except those covered by part 92, which governs awards to State and local governments. Applicants funded under this announcement must be aware of and comply with these regulations. The CFR volume that includes parts 74 and 92 may be downloaded from http://www.access.gpo.gov/nara/cfr/waisidx_03/45cfrv1_03.html.

The DHHS Appropriations Act requires that, when issuing Statements, press releases, requests for proposals, bid solicitations, and other documents describing projects or programs funded in whole or in part with Federal money, all grantees shall clearly State the percentage and dollar amount of the total costs of the program or project which will be financed with Federal money and the percentage and dollar amount of the total costs of the project or program that will be financed by non-governmental sources.

3. Reporting

In addition to those listed above, a successful applicant will submit quarterly reports that includes a summary of the local evaluation and a discussion of steps taken to implement each component of the program and the impact of the program on the targeted community/population, an annual Financial Status Report, a final Progress Report, a final Financial Status Report in the format established by the OWH, in accordance with provisions of the general regulations which apply under “Monitoring and Reporting Program Performance,” (45 CFR parts 74 and 92). The purpose of the progress reports is to provide accurate and timely program information to program managers and to respond to Congressional, Departmental, and public requests for information about the program. An original and two copies of the progress report(s) must be submitted by January 10, April 10, July 10 and August 15. If these dates fall on a Saturday or Sunday, the report will be due on Monday. The final progress report must be submitted by August 25 of each year and will serve as the non-competing continuation application. This report must include the budget request for the next grant year, with appropriate justification, and be submitted using Form OPHS-1.

A Financial Status Report (FSR) SF-269 is due 90 days after the close of each 12-month budget period.

VII. Agency Contact(s)

For application kits and information on budget and business aspects of the application, please contact: Mr. Eric West, Associate Grants Management Officer, Office of Grants Management, Office of Public Health and Science, DHHS, 1101 Wootton Parkway, Suite 550, Rockville, MD 20857. Telephone: 240-453-8822. Fax: (240) 453-8823.

Questions regarding programmatic information and/or requests for technical assistance in the preparation of the grant application should be directed in writing to: Ms. Mary L. Bowers, Public Health Advisor, Office on Women's Health, Office of Public Health and Science, DHHS, Humphrey Building, Room 712E, 200 Independence Avenue, SW., Washington, DC 20201. Telephone: 202.260.0020. E-mail: mbowers@osophs.dDHHS.gov.

VIII. Other Information

Three (3) OWH Incarcerated/Newly Released Women Living with HIV/AIDS or at High Risk for HIV/STD Infection programs are currently funded by the OWH. Information about these programs may be found at the following Web site: http://www.womenshealth.gov/owh/fund/index.htm.

Definitions

For the purposes of this cooperative agreement program, the following definitions are provided:

AIDS: Acquired immunodeficiency syndrome is a disease in which the body's immune system breaks down and is unable to fight off certain infections and other illnesses that take advantage of a weakened immune system.

Case Management: A collaborative process of assessment, planning, facilitation and advocacy for options and services to meet an individual's health needs through communication and available resources to promote quality cost-effective outcomes.

Community-based: The locus of control and decision-making powers is located at the community level, representing the service area of the community or a significant segment of the community.

Community-based organization: Public and private, nonprofit organizations that are representative of communities or significant segments of communities.

Community health center: A community-based organization that provides comprehensive primary care and preventive services to medically underserved populations. This includes but is not limited to programs reimbursed through the Federally Qualified Health Centers mechanism, Migrant Health Centers, Primary Care Public Housing Health Centers, Healthcare for the Homeless Centers, and other community-based health centers.

Comprehensive women's health services: Services including, but going beyond traditional reproductive health services to address the health needs of underserved women in the context of their lives, including a recognition of the importance of relationships in women's lives, and the fact that women play the role of health providers and decision-makers for the family. Services include basic primary care services; acute, chronic, and preventive services including gender and age-appropriate preventive services; mental and dental health services; patient education and counseling; promotion of healthy behaviors (like nutrition, smoking cessation, substance abuse services, and physical activity); and enabling services. Ancillary services are also provided such as laboratory tests, X-ray, environmental, social referral, and pharmacy services.

Correctional Settings: Secure detention facilities that house individuals convicted of crimes carrying sentences of one year or greater length. These can also be secure detention facilities holding pre-trial and post conviction inmates serving less than one year sentences or awaiting transfer to other settings.

Culturally competent: Information and services provided at the educational level and in the language and cultural context that are most appropriate for the individuals for whom the information and services are intended. Additional information on cultural competency is available at the following Web site: http://www.aoa.dhhs.gov/May2001/factsheets/Cultural-Competency.html.

Cultural perspective: Recognizes that culture, language, and country of origin have an important and significant impact on the health perceptions and health behaviors that produce a variety of health outcomes.

Discharge Planning: The process of developing a re-entry support program for an incarcerated individual scheduled for upcoming release to reduce obstacles to care, medication, eligibility for public benefits, housing, employment, substance abuse treatment, mental health, and other support services needed.

Enabling services: Services that help women access health care, such as transportation, parking vouchers, translation, child care, and case management.

Gender-Specific: An approach which considers the social and environmental context in which women live and therefore structures information, activities, program priorities and service delivery systems to compliment those factors.

Healthy People 2010: A set of national health objectives that outlines the prevention agenda for the Nation. Healthy People 2010 identify the most significant preventable threats to health and establishes national goals for the next ten years. Individuals, groups, and organizations are encouraged to integrate Healthy People 2010 into current programs, special events, publications, and meetings. Businesses can use the framework, for example, to guide worksite health promotion activities as well as community-based initiatives. Schools, colleges, and civic and faith-based organizations can undertake activities to further the health of all members of their community. Health care providers can encourage their patients to pursue healthier lifestyles and to participate in community-based programs. By selecting from among the national objectives, individuals and organizations can build an agenda for community health improvement and can monitor results over time. More information on the Healthy People 2010 objectives may be found on the Healthy People 2010 Web site: http://www.health.gov/healthypeople.

HIV: The human immunodeficiency virus that causes AIDS.

Holistic: Looking at women's health from the perspective of the whole person and not as a group of different body parts. It includes dental, mental, as well as physical health.

Incarcerated Person: Refers to an individual involuntarily confined in the secure custody of law enforcement, judicial, or penal authorities.

Integrated: The bringing together of the numerous spheres of activity that touch women's health, including clinical services, research, health training, public health outreach and education, leadership development for women, and technical assistance. The goal of this approach is to unite the strengths of each of these areas, and create a more informed, less fragmented, and efficient system of care for underserved women that can be replicated in other populations and communities.

Lifespan: Recognizes that women have different health and psychosocial needs as they encounter transitions across their lives and that the positive and negative effects of health and health behaviors are cumulative across a woman's life.

Multi-disciplinary: An approach that is based on the recognition that women's health crosses many disciplines, and that women's health issues need to be addressed across multiple disciplines, such as adolescent health, geriatrics, cardiology, mental health, reproductive health, nutrition, dermatology, endocrinology, immunology, rheumatology, dental health, etc.

Newly Released: The status of an individual returning to society and the community after incarceration.

Re-entry: The process of returning to society and the community after incarceration.

Rural Community: All territory, population, and housing units located outside of urban areas and urban cluster.

Social Role: Recognizes that women routinely perform multiple, overlapping social roles that require continuous multi-tasking.

Sustainability: An organization's or program's staying power: the capacity to maintain both the financial resources and the partnerships/linkages needed to provide adequate and effective services in the target area and to the target population. It also involves the ability to survive change, incorporate needed changes, and seize opportunities provided by a changing environment.

Underserved Women: Women who encounter barriers to health care that result from any combination of the following characteristics: poverty, ethnicity and culture, mental or physical State, housing status, geographic location, language, age, and lack of health insurance/under-insured.

Women-centered/women-focused: Addressing the needs and concerns of women (women-relevant) in an environment that is welcoming to women, fosters a commitment to women, treats women with dignity, and empowers women through respect and education. The emphasis is on working with women, not for women. Women clients are considered active partners in their own health and wellness.

Dated: May 16, 2006.
Wanda K. Jones,
Deputy Assistant Secretary for Health, (Women's Health), Office of Public Health and Science.

[FR Doc. E6-7853 Filed 5-22-06; 8:45 am]

BILLING CODE 4150-33-P